FEDERAL RESERVE SYSTEM

Formations of, Acquisitions by, and Mergers of Bank Holding Companies; Correction

This notice corrects a notice (FR Doc. E8-28715) published on pages 73933 and 73934 of the issue for Thursday, December 4, 2008.

Under the Federal Reserve Bank of San Francisco heading, the entry for 1st Security Bancorp, Inc., Mountlake Terrace, Washington, is revised to read as follows:

A. Federal Reserve Bank of San Francisco (Kenneth Binning, Vice President, Applications and Enforcement) 101 Market Street, San Francisco, California 94105-1579:

1. 1st Security Bancorp, Inc., to become a bank holding company by acquiring 100 percent of the voting shares of 1st Security Bank of Washington, both of Mountlake Terrace, Washington, upon the conversion from a mutual savings bank to a stock savings bank.

Comments regarding this application must be received by December 29, 2008.

Board of Governors of the Federal Reserve System, December 4, 2008.
Robert deV. Frierson,
Deputy Secretary of the Board.

[FR Doc. E8-29103 Filed 12-8-08 8:45 am]

BILLING CODE 6210-01-S